DEPARTMENT OF DEFENSE

Office of the Secretary

Charter Amendment of Department of Defense Federal Advisory Committees

AGENCY: Department of Defense.

ACTION: Charter amendment of Federal advisory committee.

SUMMARY: The Department of Defense is publishing this notice to announce that it is amending the charter for the Uniform Formulary Beneficiary Advisory Panel (“the Panel”).

FOR FURTHER INFORMATION CONTACT: Jim Freeman, Advisory Committee Management Officer for the Department of Defense, 703-692-5952.

SUPPLEMENTARY INFORMATION: This committee's charter is being amended pursuant to 10 U.S.C. 1074g(c) and in accordance with the Federal Advisory Committee Act (FACA) of 1972 (5 U.S.C., Appendix, as amended) and 41 CFR 102-3.50(a).

The Panel is a statutory Federal advisory committee that provides the Secretary of Defense and the Deputy Secretary of Defense, through the Under Secretary of Defense for Personnel and Readiness (USD(P&R)), the Assistant Secretary of Defense for Health Affairs (ASD(HA)), and the Director, Defense Health Agency (DHA), independent advice and recommendations on the development of the uniform formulary. The Secretary of Defense shall consider the comments of the Panel before implementing the uniform formulary or implementing changes to the uniform formulary.

The Panel reports to the Secretary of Defense and/or the Deputy Secretary of Defense, through the USD(P&R), the ASD(HA), and the Director, DHA. The USD(P&R), or designated representative, may act upon the Panel's advice and recommendations.

The Department of Defense (DoD), through the Office of the USD(P&R) and the DHA, provides support for the performance of the Panel's functions and ensures compliance with the requirements of the FACA, the Government in the Sunshine Act of 1976 (5 U.S.C. 552b, as amended) (“the Sunshine Act”), governing Federal statutes and regulations, and established DoD policies and procedures.

Under the provisions of 10 U.S.C. 1074g(c)(2), the Panel shall be composed of no more than 15 members and shall include members that represent:

a. Non-governmental organizations and associations that represent the views and interests of a large number of eligible covered beneficiaries;

b. Contractors responsible for the TRICARE retail pharmacy program;

c. Contractors responsible for the national mail-order pharmacy program; and

d. TRICARE network providers.

The Panel members will be appointed by the Secretary of Defense or the Deputy Secretary of Defense, and their appointments will be renewed on an annual basis in accordance with DoD policies and procedures. Panel members who are not full-time or permanent part-time Federal officers or employees will be appointed as experts or consultants pursuant to 5 U.S.C. 3109 to serve as special government employee (SGE) members. Panel members who are full-time or permanent part-time Federal officers or employees will serve as regular government employee (RGE) members pursuant to 41 CFR 102-3.130(a). Panel members shall be appointed for a term of service of one-to-four years, and no member may serve more than two consecutive terms of service without Secretary of Defense or Deputy Secretary of Defense approval.

Consistent with the Deputy Secretary of Defense policy, the USD(P&R) may appoint the Panel's Co-Chairs from among the Secretary of Defense approved panel membership and in doing so, shall determine the term of service for the Panel's Co-Chairs, which shall not exceed the member's approved term of service.

All members of the Panel are appointed to provide advice on the basis of their best judgment without representing any particular points of view and in a manner that is free from conflict of interest.

Panel members will serve without compensation except for reimbursement of travel and per diem as it pertains to official business of the Panel.

DoD, when necessary and consistent with the Panel's mission and DoD policies and procedures, may establish subcommittees, task forces, or working groups to support the Panel. Establishment of subcommittees will be based upon a written determination, to include terms of reference, by the Secretary of Defense, the Deputy Secretary of Defense, or the USD(P&R), as the Panel's Sponsor.

Such subcommittees will not work independently of the Panel and will report all of their recommendations and advice solely to the Panel for full and open deliberation and discussion. Subcommittees, task forces, or working groups have no authority to make decisions and recommendations, verbally or in writing, on behalf of the Panel. No subcommittee or any of its members can update or report, verbally or in writing, on behalf of the Panel, directly to the DoD or any Federal officer or employee.

Each member, based upon his or her individual professional experience, provides his or her best judgment on the matters before the Panel, and he or she does so in a manner that is free from conflict of interest. All subcommittee members will be appointed by the Secretary of Defense or the Deputy Secretary of Defense to a term of service of one-to-four years, with annual renewals, even if the individual is already a member of the Panel. Subcommittee members will not serve more than two consecutive terms of service, unless authorized by the Secretary of Defense or the Deputy Secretary of Defense. Subcommittee members who are not full-time or permanent part-time Federal officers or employees will be appointed as an expert or consultant pursuant to 5 U.S.C. 3109, to serve as a SGE member. Subcommittee members who are full-time or permanent part-time Federal officers or employees will be appointed pursuant to 41 CFR 102-3.130(a) to serve as an RGE member. With the exception of reimbursement of official travel and per diem related to the Panel or its subcommittees, subcommittee members will serve without compensation.

All subcommittees operate under the provisions of FACA, the Sunshine Act, governing Federal statutes and regulations, and established DoD policies and procedures.

The Panel's Designated Federal Officer (DFO) must be a full-time or permanent part-time DoD officer or employee, designated in accordance with established DoD policies and procedures. The Panel's DFO is required to be in attendance at all meetings of the Panel and any subcommittees for the entire duration of each and every meeting. However, in the absence of the Panel's DFO, a properly approved Alternate DFO duly designated to the Panel according to established DoD policies and procedures, must attend the entire duration of all meetings of the Panel and any subcommittees.

The DFO, or the Alternate DFO, calls all meetings of the Panel and its subcommittees; prepares and approves all meeting agendas; and adjourns any meeting when the DFO, or the Alternate DFO, determines adjournment to be in the public interest or required by governing regulations or DoD policies and procedures.

Pursuant to 41 CFR 102-3.105(j) and 102-3.140, the public or interested organizations may submit written statements to Panel membership about the Panel's mission and functions. Written statements may be submitted at any time or in response to the stated agenda of planned meeting of the Panel.

All written statements shall be submitted to the DFO for the Panel, and this individual will ensure that the written statements are provided to the membership for their consideration. Contact information for the Panel's DFO can be obtained from the GSA's FACA Database— http://www.facadatabase.gov/.

The DFO, pursuant to 41 CFR 102-3.150, will announce planned meetings of the Panel. The DFO, at that time, may provide additional guidance on the submission of written statements that are in response to the stated agenda for the planned meeting in question.

Dated: January 8, 2016.
Aaron Siegel,
Alternate OSD Federal Register, Liaison Officer, Department of Defense.

[FR Doc. 2016-00526 Filed 1-12-16; 8:45 am]

BILLING CODE 5001-06-P